DEPARTMENT OF COMMERCE

National Oceanic and Atmospheric Administration

RIN 0648-XB040

Marine Mammals; File Nos. 1076-1789 and 14502

AGENCY: National Marine Fisheries Service (NMFS), National Oceanic and Atmospheric Administration (NOAA), Commerce.

ACTION: Notice; issuance of permit amendments.

SUMMARY: Notice is hereby given that the Alliance of Marine Mammal Parks and Aquariums (The Alliance), 2850 Ranch Reserve Lane, Westminster, Colorado 80234 (Kristi West, Ph.D., Principal Investigator) and Russell Fielding, Ph.D., Department of Geography, University of Denver, 2050 E. Iliff Avenue, Denver, CO 80208, have been issued minor amendments to Scientific Research Permit Nos. 1076-1789 and 14502.

ADDRESSES: The amendment and related documents are available for review upon written request or by appointment in the following offices:

Permits and Conservation Division, Office of Protected Resources, NMFS, 1315 East-West Highway, Room 13705, Silver Spring, MD 20910; phone (301) 427-8401; fax (301) 713-0376; and

Northwest Region, NMFS, 7600 Sand Point Way NE., BIN C15700, Bldg. 1, Seattle, WA 98115-0700; phone (206) 526-6150; fax (206) 526-6426.

FOR FURTHER INFORMATION CONTACT: Jennifer Skidmore, Amy Sloan or Kristy Beard, (301) 427-8401.

SUPPLEMENTARY INFORMATION: The requested amendments have been granted under the authority of the Marine Mammal Protection Act of 1972, as amended (16 U.S.C. 1361 et seq.) and the regulations governing the taking and importing of marine mammals (50 CFR part 216).

Permit No. 1076-1789: This permit, issued on March 13, 2007 (72 FR 13092), authorized the receipt, import and export of marine mammal specimens (cetaceans and pinnipeds, except for walrus) under the jurisdiction of NMFS to study and document the health and biology of wild marine mammals as well as those marine mammals maintained in public display, research, or stranding facilities or from samples taken during other permitted research through February 29, 2012. This minor amendment (No. 1076-1789-01) extends the duration of the permit through February 28, 2013, but does not change any other terms or conditions of the permit.

Permit No. 14502: This permit, issued on June 17, 2011 (72 FR 13092), authorized the importation of samples from Risso's (Grampus griseus), spinner (Stenella longirostris), and spotted (S. frontalis) dolphins and short-finned pilot whales (Globicephala macrorhynchus) for the purpose of scientific research through June 17, 2012. This minor amendment (No. 14502-01) extends the duration of the permit through June 17, 2013, but does not change any other terms or conditions of the permit.

Dated: February 22, 2012.
P. Michael Payne,
Chief, Permits and Conservation Division, Office of Protected Resources, National Marine Fisheries Service.

[FR Doc. 2012-4700 Filed 2-27-12; 8:45 am]

BILLING CODE 3510-22-P